NUCLEAR REGULATORY COMMISSION

Request for a License to Import Radioactive Waste

Pursuant to 10 CFR 110.70 (b) “Public Notice of Receipt of an Application,” please take notice that the Nuclear Regulatory Commission (NRC) has received the following request for an import license. Copies of the request are available electronically through ADAMS and can be accessed through the Public Electronic Reading Room (PERR) link http://www.nrc.gov/reading-rm.html at the NRC Homepage.

A request for a hearing or petition for leave to intervene may be filed within thirty days after publication of this notice in the Federal Register. Any request for hearing or petition for leave to intervene shall be served by the requestor or petitioner upon the applicant, the office of the General Counsel, U.S. Nuclear Regulatory Commission, Washington, DC 20555; the Secretary, U.S. Nuclear Regulatory Commission, Washington, DC 20555; and the Executive Secretary, U.S. Department of State, Washington, DC 20520.

A request for a hearing or petition for leave to intervene may be filed with the NRC electronically in accordance with NRC's E-Filing rule promulgated in August 2007, 72 FR 49139 (Aug. 28, 2007). Information about filing electronically is available on the NRC's public Web site at http://www.nrc.gov/site-help/e-submittals.html. To ensure timely electronic filing, at least 5 (five) days prior to the filing deadline, the petitioner/requestor should contact the Office of the Secretary by email at HEARINGDOCKET@NRC.GOV, or by calling (301) 415-1677, to request a digital ID certificate and allow for the creation of an electronic docket.

In addition to a request for hearing or petition for leave to intervene, written comments, in accordance with 10 CFR 110.81, should be submitted within thirty (30) days after publication of this notice in the Federal Register to Office of the Secretary, U.S. Nuclear Regulatory Commission, Washington, DC 20555, Attention: Rulemaking and Adjudications

The information concerning this import license application follows.

NRC IMPORT LICENSE APPLICATION
Name of Applicant, date of application, date received, application No., Docket No. | Description of Material: Material type | Description of Material: Total quantity | Description of Material: End use | Description of Material: Country from
Eastern Technologies, Inc., June 4, 2013, June 5, 2013, IW032 11006100 | Class A radioactive waste consisting of corrosion activation and mixed fission products as contaminants on used protective clothing and other items | Up to a maximum total of 0.074 TBq (2 Ci) per year (Total: 0.45 TBq (12 Ci) over the life of the license) | Laundering and decontamination of protective clothing and related products used at nuclear power plants in Canada. The residual material from dissolving and decontamination will be returned to Canada under the associated export license (XW021) | Canada

For the Nuclear Regulatory Commission.
Dated this 19th day of July 2013 at Rockville, Maryland.
Mark R. Shaffer,
Deputy Director, Office of International Programs.

[FR Doc. 2013-18155 Filed 7-26-13; 8:45 am]

BILLING CODE 7590-01-P